DEPARTMENT OF EDUCATION

Web-Based Education Commission: Postponement of Press Conference

AGENCY: Office of Postsecondary Education, Education.

SUMMARY: The Commission published a notice in the Federal Register on December 11, 2000 (65 FR 77350), announcing a press conference to be held on December 14, 2000 at 9:30 a.m. Due to a scheduling conflict, the press conference has been rescheduled.

DATES: The press conference will be held on December 19, 2000 at 1 p.m. It will be held at the National Press Club, 529 14th St., NW., in Washington, DC, in the Hollerman Lounge.

FOR FURTHER INFORMATION CONTACT: David Byer, Executive Director, Web-based Education Commission, U.S. Department of Education, 1990 K Street, NW., Washington, DC 20006-8533. Telephone: (202) 219-7045. Fax: (202) 502-7675. Email: web_commission@ed.gov.

Note: The official version of this document is the document published in the Federal Register. Free Internet access to the official edition of the Federal Register and the Code of Federal Regulations is available on GPO Access at: http://www.access.gpo.gov/nara/indes.html/.

Dated: December 14, 2000.
A. Lee Fritschler,
Assistant Secretary, Office of Postsecondary Education.

[FR Doc. 00-32367 Filed 12-15-00; 10:16 am]

BILLING CODE 4000-01-P